DEPARTMENT OF THE INTERIOR

Geological Survey

[GX15EE000101100]

Announcement of National Geospatial Advisory Committee Meeting

AGENCY: U.S. Geological Survey, Interior.

ACTION: Notice of Meeting

SUMMARY: The National Geospatial Advisory Committee (NGAC) will meet on March 17-18, 2015 at the South Interior Building Auditorium, 1951 Constitution Avenue NW, Washington, DC 20240. The meeting will be held in the first floor Auditorium. The NGAC, which is composed of representatives from governmental, private sector, non-profit, and academic organizations, was established to advise the Federal Geographic Data Committee (FGDC) on management of Federal geospatial programs, the development of the National Spatial Data Infrastructure (NSDI), and the implementation of Office of Management and Budget (OMB) Circular A-16. Topics to be addressed at the meeting include:

• Leadership Dialogue

• FGDC Report (NSDI Strategic Plan Implementation, National Geospatial Data Asset Management Plan, Geospatial Platform)

• Crowd-Sourced Geospatial Data

• Geospatial Privacy

• 3D Elevation Program

• Landsat

• Subcommittee Activities

The meeting will include an opportunity for public comment on March 18. Comments may also be submitted to the NGAC in writing. Members of the public who wish to attend the meeting must register in advance. Please register by contacting Lucia Foulkes at the U.S. Geological Survey (703-648-4142, lfoulkes@usgs.gov). Registrations are due by March 13, 2015. While the meeting will be open to the public, registration is required for entrance to the South Interior Building, and seating may be limited due to room capacity.

DATES: The meeting will be held from 8:30 a.m. to 5:30 p.m. on March 17 and from 8:30 a.m. to 4:00 p.m. on March 18.

FOR FURTHER INFORMATION CONTACT: John Mahoney, U.S. Geological Survey (206-220-4621).

SUPPLEMENTARY INFORMATION: Meetings of the National Geospatial Advisory Committee are open to the public. Additional information about the NGAC and the meeting is available at www.fgdc.gov/ngac.

Kenneth Shaffer,
Deputy Executive Director, Federal Geographic Data Committee.

[FR Doc. 2015-03592 Filed 2-20-15; 8:45 am]

BILLING CODE 4311-AM-P